DEPARTMENT OF TRANSPORTATION

Federal Railroad Administration

[Docket Number FRA-2024-0121]

Notice of Application for Approval of Discontinuance or Modification of a Railroad Signal System

AGENCY: Federal Railroad Administration (FRA), Department of Transportation (DOT).

ACTION: Notice.

SUMMARY: This document provides the public notice that by letter received October 18, 2024, Union Pacific Railroad (UP) petitioned FRA seeking approval to discontinue or modify a signal system.

DATES: FRA must receive comments on the petition by June 23, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Scott Johnson, Railroad Safety Specialist, FRA Signal, Train Control, and Crossings Division, telephone: 406-210-3608, email: scott.j.johnson@dot.gov.

SUPPLEMENTARY INFORMATION: Under part 235 of title 49 Code of Federal Regulations (CFR) and 49 U.S.C. 20502(a), this document provides the public notice that by letter received October 18, 2024, UP petitioned FRA seeking approval to discontinue or modify a signal system. FRA assigned the petition Docket Number FRA-2024-0121.

Specifically, UP requests to remove circuitry and signal equipment for the Atchison Bridge (at milepost 330.8) on the Atchison Industrial Lead near Atchison, Kansas. UP states that “[p]ersonnel will be instructed to visually inspect” the bridge before occupying it, and “stop signs will be placed in lieu of signals for any movements made onto the bridge.”

In support of the request, UP states that no freight traffic moves across the bridge, as the “associated track on the east side of the river and bridge is no longer usable.” The only movements onto Atchison Bridge would be an occasional “poke move” made by a local team that will stop and inspect the bridge. In its petition, UP also notes that the “safety of the system will be retained.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by June 23, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-06846 Filed 4-21-25; 8:45 am]

BILLING CODE 4910-06-P